ENVIRONMENTAL PROTECTION AGENCY

40 CFR Part 372

[EPA-HQ-OEI-2011-0979; FRL-9825-9]

RIN 2025-AA36

Community Right-to-Know; Adoption of 2012 North American Industry Classification System (NAICS) Codes for Toxics Release Inventory (TRI) Reporting

AGENCY: Environmental Protection Agency (EPA).

ACTION: Proposed rule.

SUMMARY: EPA is proposing to update the list of North American Industry Classification System (NAICS) codes subject to reporting under the Toxics Release Inventory (TRI) to reflect the Office of Management and Budget (OMB) 2012 NAICS revision. Facilities would be required to use 2012 NAICS codes when reporting to TRI beginning with TRI reporting forms that are due on July 1, 2014, covering releases and other waste management quantities for the 2013 calendar year. In the “Rules and Regulations” section of today's Federal Register, we are simultaneously publishing the 2012 OMB NAICS revisions for TRI Reporting as a direct final rule without a prior proposed rule. If we receive no adverse comment, we will not take further action on this proposed rule. We will withdraw this proposed rule, and the direct final rule will become effective as specified in that rule. If, however, we do receive adverse comment in response to this proposed rule or in response to the direct final rule, then we will publish a timely withdrawal in the Federal Register informing the public that the direct final rule will not take effect. In that case, we would address all public comments in a subsequent final rule based on this proposed rule. We will not institute a second comment period on this action. Any parties interested in commenting must do so at this time. For further information about commenting on this rule, see the ADDRESSES section of this document.

DATES: Comments must be received on or before August 19, 2013.

ADDRESSES: Submit your comments, identified by Docket ID No. EPA-HQ-OEI-2011-0979, by one of the following methods:

• http://www.regulations.gov: Follow the on-line instructions for submitting comments.

• Email: oei.docket@epa.gov.

• Fax: (202) 566-0715.

• Mail: OEI Docket, Environmental Protection Agency, Mailcode 2822T, 1200 Pennsylvania Ave. NW., Washington, DC, 20460.

• Hand Delivery: EPA/DC, EPA West, Room 3334, 1301 Constitution Ave. NW., Washington, DC, 20460. Such deliveries are only accepted during the Docket's normal hours of operation, and special arrangements should be made for deliveries of boxed information.

Instructions: Direct your comments to Docket ID No. EPA-HQ-OEI-2011-0979. EPA's policy is that all comments received will be included in the public docket without change and may be made available online at www.regulations.gov, including any personal information provided, unless the comment includes information claimed to be Confidential Business Information (CBI) or other information for which disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters or any form of encryption and must be free of any defects or viruses. For additional information about EPA's public docket, visit the EPA Docket Center homepage at http://www.epa.gov/epahome/dockets.htm.

Docket: All documents in the docket are listed in the www.regulations.gov index. Although listed in the index, some information is not publicly available, e.g., CBI or other information for which disclosure is restricted by statute. Certain other materials, such as copyrighted material, will be publicly available only in hard copy. Publicly available docket materials are available either electronically in www.regulations.gov or in hard copy at the OEI Docket, EPA/DC, EPA West, Room 3334, 1301 Constitution Ave. NW., Washington, DC. This Docket Facility is open from 8:30 a.m. to 4:30 p.m., Monday through Friday, excluding legal holidays. The Public Reading Room is open Monday through Friday, excluding legal holidays. The telephone number for the Public Reading Room is (202) 566-1744, and the telephone number for the OEI Docket is (202) 566-1752.

FOR FURTHER INFORMATION CONTACT: Judith Kendall, Toxics Release Inventory Program Division, Mailcode 2844T, OEI, Environmental Protection Agency, Ariel Rios Building, 1200 Pennsylvania Ave. NW., Washington, DC 20460; Telephone: (202) 566-0750; Fax: (202) 566-0715; email: kendall.judith@epa.gov. For general information on TRI, contact the Emergency Planning and Community Right-to-Know Hotline at (800) 424-9346 or (703) 412-9810, TDD (800) 553-7672, http://www.epa.gov/epaoswer/hotline/.

SUPPLEMENTARY INFORMATION:

I. Why is EPA issuing this proposed rule?

This document proposes to take action to update the list of North American Industry Classification System (NAICS) codes subject to reporting under the Toxics Release Inventory (TRI) to reflect the Office of Management and Budget (OMB) final 2012 NAICS revision (75 FR 26856 and 76 FR 51240). We have published a direct final rule to adopt the OMB 2012 NAICS codes for TRI reporting purposes in the “Rules and Regulations” section of this Federal Register because we view this as a noncontroversial action and anticipate no adverse comment. We have explained our reasons for this action in the preamble to the direct final rule.

If we receive no adverse comment, we will not take further action on this proposed rule. The proposed rule will be withdrawn, and the direct final rule will become effective as specified in that rule. If, however, we receive adverse comment, we will withdraw the direct final rule and it will not take effect. In that case, we would address all public comments in any subsequent final rule based on this proposed rule.

We do not intend to institute a second comment period on this action. Any parties interested in commenting must do so at this time. For further information, please see the information provided in the ADDRESSES section of this document.

II. Does this action apply to me?

Entities that may be affected by this action are those facilities that have 10 or more full-time employees or the equivalent 20,000 hours per year that manufacture, process, or otherwise use toxic chemicals listed on the TRI, and that are required under section 313 of the Emergency Planning and Community Right-to-Know Act (EPCRA) or section 6607 of the Pollution Prevention Act (PPA) to report annually to EPA and States or Tribes their environmental releases or other waste management quantities of covered chemicals. (A rule was published on April 19, 2012 (77 FR 23409), requiring facilities located in Indian country to report to the appropriate tribal government official and EPA instead of to the state and EPA.) Under Executive Order 13423 (January 24, 2007), published in the Federal Register on January 26, 2007 (72 FR 3919), all federal facilities are required to comply with the provisions set forth in Section 313 of EPCRA and section 6607 of the PPA. On March 29, 2007, the White House Council on Environmental Quality (CEQ) issued Instructions for Implementing Executive Order 13423, including annual reporting to the TRI program. Notice of availability of those implementing instructions was published in the Federal Register on June 18, 2007 (72 FR 33504).

To determine whether your facility is affected by this action, you should carefully examine the applicability criteria in Part 372 of Title 40 of the Code of Federal Regulations. If you have any questions regarding the applicability of this action to a particular entity, consult the person listed in the FOR FURTHER INFORMATION CONTACT section.

III. What should I consider as I prepare my comments for EPA?

A. Submitting CBI

If you wish to claim information submitted in a comment to be CBI, it will be handled in accordance with procedures set forth in 40 CFR part 2, subpart B. If you do not assert a confidentiality claim at the time of submission, the information may be made available to the public by EPA without further notice. See 40 CFR 2.203, 41 FR 36902, September 1, 1976. Do not submit this information to EPA through www.regulations.gov or email. Clearly mark the specific information that you claim to be CBI. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR Part 2.

B. Tips for Preparing Your Comments

When submitting comments, remember to:

• Identify the rulemaking by docket number and other identifying information (subject heading, Federal Register date and page number).

• Follow directions—The Agency may ask you to respond to specific questions or organize comments by referencing a Code of Federal Regulations (CFR) part or section number.

• Explain why you agree or disagree; suggest alternatives and substitute language for your requested changes.

• Describe any assumptions and provide any technical information and/or data that you used.

• If you estimate potential costs or burdens, explain how you arrived at your estimate in sufficient detail to allow for it to be reproduced.

• Provide specific examples to illustrate your concerns, and suggest alternatives.

• Explain your views as clearly as possible, avoiding the use of profanity or personal threats.

• Make sure to submit your comments by the comment period deadline identified.

IV. What is EPA's statutory authority for taking this action?

EPA is taking this action under sections 313(g)(1) and 328 of EPCRA, 42 U.S.C. 11023(g)(1) and 11048. EPCRA is also referred to as Title III of the Superfund Amendments and Reauthorization Act of 1986 (SARA) (Pub. L. 99-499). In general, section 313 of EPCRA requires owners and operators of covered facilities in specified Standard Industrial Classification (SIC) codes that manufacture, process, or otherwise use a listed toxic chemical in amounts above specified threshold levels to report certain facility specific information about such chemicals, including the annual releases and other waste management quantities. Section 313(g)(1) of EPCRA requires EPA to publish a uniform toxic chemical release form for these reporting purposes, and it also prescribes, in general terms, the types of information that must be submitted on the form. Section 313(g)(1)(A) requires owners and operators of facilities that are subject to section 313 requirements to report the principal business activities at the facilities. Congress also granted EPA broad rulemaking authority to allow the Agency to fully implement the statute. EPCRA section 328 states that: “The Administrator may prescribe such regulations as may be necessary to carry out this chapter.” 42 U.S.C. 11048.

Consistent with these authorities, on June 6, 2006, EPA amended 40 CFR Part 372 to include the 2002 NAICS codes that correspond to the SIC codes that are currently subject to section 313 of EPCRA and section 6607 of the PPA (71 FR 32464). On June 9, 2008 (73 FR 32466), EPA amended 40 CFR Part 372 to include the 2007 NAICS codes that correspond to the SIC codes that are currently subject to section 313 of EPCRA and section 6607 of the PPA. This proposed action would amend 40 CFR Part 372 to include OMB's revised NAICS codes for 2012.

Owners and operators of facilities that are subject to section 313 would need to use 2012 NAICS codes when identifying their principal business activities beginning with TRI reporting forms that are due on July 1, 2014, covering releases and other waste management quantities at the facility for the 2013 calendar year.

V. Background Information

What is the general background for this action?

EPA promulgated a final TRI NAICS rule on June 6, 2006, to amend its regulations for TRI, found at 40 CFR Part 372, to include NAICS codes in addition to SIC codes. The list of TRI NAICS codes that appeared in the final rule was developed from the OMB 2002 NAICS revision. EPA updated the list of TRI NAICS codes in 2008 (73 FR 32466), to incorporate changes to the TRI NAICS codes resulting from the OMB 2007 NAICS revision.

The Office of Management and Budget (OMB) revises North American Industry Classification Codes every five years. An OMB Federal Register notice published on May 12, 2010 (75 FR 26856), announced updated NAICS codes for 2012, and a second OMB Federal Register notice published on Aug. 17, 2011 (76 FR 51240), finalized and further modified the NAICS codes for 2012.

VI. Proposed Action

A. What is the agency proposing?

EPA would amend 40 CFR Part 372 to include 2012 NAICS codes for TRI reporting that accurately reflect the universe of covered facilities under section 313 of EPCRA and section 6607 of the PPA.

B. Would the proposal change the universe of facilities that are currently required to report to EPA and the States?

Today's proposal of updating the list of NAICS codes to reflect the 2012 OMB NAICS revision would not change the universe of facilities that are currently required to report to EPA and the States.

C. How would Section 313 reporting requirements change as a result of this proposed rule?

TRI reporting requirements would not change as a result of this proposed rule. This proposed rule would simply revise the NAICS codes to reflect the OMB NAICS 2012 revision.

VII. Which TRI-covered NAICS codes have been modified under this proposed rule?

The Office of Management and Budget (OMB) revises North American Industry Classification Codes every five years. An OMB Federal Register notice published on May 12, 2010 (75 FR 26856), announced updated NAICS codes for 2012, and a second OMB Federal Register notice published on August 17, 2011 (76 FR 51240), finalized and further modified the NAICS codes for 2012. All facilities that are currently required to report to TRI would still be required to report, and facilities that are not currently required to file TRI reports to the Agency would not be required to do so. However, due to the 2012 NAICS modifications, some facilities would need to modify their NAICS codes as outlined in the table below. This table reflects only the revised TRI NAICS reporting codes. A complete table of all TRI NAICS reporting codes can be found in the regulations at § 372.23.

Revised TRI 2012 Reporting Codes
2007 NAICS Code | 2007 NAICS and U.S. Description | 2012 NAICS Code | 2012 NAICS description
221119 | Other Electric Power Generation. | 221118 | Other Electric Power Generation.
311222 311223 | Soybean Processing. Other Oilseed Processing. | 311224 | Soybean and Other Oilseed Processing.
311311 311312 | Sugarcane Mills. Cane Sugar Refining. | 311314 | Cane Sugar Manufacturing.
311320 | Chocolate and Confectionery Manufacturing from Cacao Beans. | 311351 | Chocolate and Confectionery Manufacturing from Cacao Beans.
311330 | Confectionery Manufacturing from Purchased Chocolate. | 311352 | Confectionery Manufacturing from Purchased Chocolate.
311711 311712 | Seafood Canning. Fresh and Frozen Seafood Processing. | 311710 | Seafood Product Preparation and Packaging.
311822 311823 | Flour Mixes and Dough Manufacturing from Purchased Flour. Dry Pasta Manufacturing. | 311824 | Dry Pasta, Dough, and Flour Mixes Manufacturing from Purchased Flour.
312210 | Tobacco Stemming and Redrying. | 312230 | Tobacco Manufacturing.
312221 | Cigarette Manufacturing.
312229 | Other Tobacco Product Manufacturing.
313111 | Yarn Spinning Mills. | 313110 | Fiber, Yarn, and Thread Mills.
313112 | Yarn Texturizing, Throwing, and Twisting Mills.
313113 | Thread Mills.
313221 | Narrow Fabric Mills. | 313220 | Narrow Fabric Mills and Schiffli Machine Embroidery.
313222 | Schiffli Machine Embroidery.
313241 | Weft Knit Fabric Mills. | 313240 | Knit Fabric Mills.
313249 | Other Knit Fabric and Lace Mills.
313311 | Broadwoven Fabric Finishing Mills. | 313310 | Textile and Fabric Finishing Mills.
313312 | Textile and Fabric Finishing (except Broadwoven Fabric) Mills.
314121 | Curtain and Drapery Mills. | 314120 | Curtain and Linen Mills.
314129 | Other Household Textile Product Mills.
314911 | Textile Bag Mills. | 314910 | Textile Bag and Canvas Mills.
314912 | Canvas and Related Product Mills.
314991 | Rope, Cordage, and Twine Mills. | 314994 | Rope, Cordage, Twine, Tire Cord, and Tire Fabric Mills.
314992 | Tire Cord and Tire Fabric Mills.
315111 | Sheer Hosiery Mills. | 315110 | Hosiery and Sock Mills.
315119 | Other Hosiery and Sock Mills.
315191 | Outerwear Knitting Mills. | 315190 | Other Apparel Knitting Mills.
315192 | Underwear and Nightwear Knitting Mills.
315211 | Men's and Boys' Cut and Sew Apparel Contractors. | 315210 | Cut and Sew Apparel Contractors.
315212 | Women's, Girls', and Infants' Cut and Sew Apparel Contractors.
315221 | Men's and Boys' Cut and Sew Underwear and Nightwear Manufacturing. | 315220 | Men's and Boys' Cut and Sew Apparel Manufacturing.
315222 | Men's and Boys' Cut and Sew Suit, Coat, and Overcoat Manufacturing.
315223 | Men's and Boys' Cut and Sew Shirt (except Work Shirt) Manufacturing.
315224 | Men's and Boys' Cut and Sew Trouser, Slack, and Jean Manufacturing.
315225 | Men's and Boys' Cut and Sew Work Clothing Manufacturing.
315228 | Men's and Boys' Cut and Sew Other Outerwear Manufacturing.
315231 | Women's and Girls' Cut and Sew Lingerie, Loungewear, and Nightwear Manufacturing. | 315240 | Women's, Girls', and Infants' Cut and Sew Apparel Manufacturing.
315232 | Women's and Girls' Cut and Sew Blouse and Shirt Manufacturing.
315233 | Women's and Girls' Cut and Sew Dress Manufacturing.
315234 | Women's and Girls' Cut and Sew Suit, Coat, Tailored Jacket, and Skirt Manufacturing.
315239 | Women's and Girls' Cut and Sew Other Outerwear Manufacturing.
315291 | Infants' Cut and Sew Apparel Manufacturing.
315292 | Fur and Leather Apparel Manufacturing. | 315280 | Other Cut and Sew Apparel Manufacturing.
315299 | All Other Cut and Sew Apparel Manufacturing.
315991 | Hat, Cap, and Millinery Manufacturing. | 315990 | Apparel Accessories and Other Apparel Manufacturing.
315992 | Glove and Mitten Manufacturing.
315993 | Men's and Boys' Neckwear Manufacturing.
315999 | Other Apparel Accessories and Other Apparel Manufacturing.
316211 | Rubber and Plastics Footwear Manufacturing. | 316210 | Footwear Manufacturing.
316212 | House Slipper Manufacturing.
316213 | Men's Footwear (except Athletic).
316214 | Manufacturing on Women's Footwear (except Athletic).
316219 | Manufacturing Other Footwear Manufacturing.
316991 | Luggage Manufacturing. | 316998 | All Other Leather Good and Allied Product Manufacturing.
316993 | Personal Leather Good (except Women's Handbag and Purse) Manufacturing.
316999 | All Other Leather Good and Allied Product Manufacturing.
322213 | Setup Paperboard Box Manufacturing. | 322219 | Other Paperboard Container Manufacturing.
322214 | Fiber Can, Tube, Drum, and Similar Products Manufacturing.
322215 | Nonfolding Sanitary Food Container Manufacturing.
322221 | Coated and Laminated Packaging. | 322220 | Paper Bag and Coated and Treated Paper Manufacturing.
322222 | Coated and Laminated Paper Manufacturing.
322223 | Coated Paper Bag and Pouch Manufacturing.
322224 | Uncoated Paper and Multiwall Bag Manufacturing.
322225 | Laminated Aluminum Foil Manufacturing for Flexible Packaging Uses.
322226 | Surface-Coated Paperboard Manufacturing.
322231 | Die-Cut Paper and Paperboard Office Supplies Manufacturing. | 322230 | Stationery Product Manufacturing.
322232 | Envelope Manufacturing.
322233 | Stationery, Tablet, and Related Product Manufacturing.
323110 | Commercial Lithographic Printing. | 323111 | Commercial Printing (except Screen and Books).
323111 | Commercial Gravure Printing).
323112 | Commercial Flexographic Printing.
323114 | Quick Printing.
323115 | Digital Printing.
323116 | Manifold Business Forms Printing.
323118 | Blankbook, Looseleaf Binders, and Devices Manufacturing.
323119 | Other Commercial Printing.
323121 | Tradebinding and Related Work. | 323120 | Support Activities for Printing.
323122 | Prepress Services.
325131 | Inorganic Dye and Pigment Manufacturing. | 325130 | Synthetic Dye and Pigment Manufacturing.
325132 | Synthetic Organic Dye and Pigment Manufacturing.
325181 | Alkalies and Chlorine Manufacturing. | 325180 | Other Basic Inorganic Chemical Manufacturing.
325182 | Carbon Black Manufacturing.
325188 | All Other Basic Inorganic Chemical Manufacturing.
325191 | Gum and Wood Chemical Manufacturing. | 325194 | Cyclic Crude, Intermediate, and Gum and Wood Chemical Manufacturing.
325192 | Cyclic Crude and Intermediate Manufacturing.
325221 | Cellulosic Organic Fiber Manufacturing. | 325220 | Artificial and Synthetic Fibers and Filaments Manufacturing.
325222 | Noncellulosic Organic Fiber Manufacturing.
326192 | Resilient Floor Covering Manufacturing. | 326199 | All Other Plastics Product Manufacturing.
327111 | Vitreous China Plumbing Fixture and China and Earthenware Bathroom Accessories Manufacturing. | 327110 | Pottery, Ceramics, and Plumbing Fixture Manufacturing.
327112 | Vitreous China, Fine Earthenware, and Other Pottery Product Manufacturing.
327113 | Porcelain Electrical Supply Manufacturing.
327121 | Brick and Structural Clay Tile Manufacturing. | 327120 | Clay Building Material and Refractories Manufacturing.
327122 | Ceramic Wall and Floor Tile Manufacturing.
327123 | Other Structural Clay Product Manufacturing.
327124 | Clay Refractory Manufacturing.
327125 | Nonclay Refractory Manufacturing.
331111 | Iron and Steel Mills. | 331110 | Iron and Steel Mills and Ferroalloy Manufacturing.
331112 | Electrometallurgical Ferroalloy Product Manufacturing.
331311 | Alumina Refining. | 331313 | Alumina Refining and Primary Aluminum Production.
331312 | Primary Aluminum Production.
331316 | Aluminum Extruded Product Manufacturing. | 331318 | Other Aluminum Rolling, Drawing, and Extruding.
331319 | Other Aluminum Rolling and Drawing.
331411 | Primary Smelting and Refining of Copper. | 331410 | Nonferrous Metal (except Aluminum) Smelting and Refining.
331419 | Primary Smelting and Refining of Nonferrous Metal (except Copper and Aluminum).
331421 | Copper Rolling, Drawing, and Extruding. | 331420 | Copper Rolling, Drawing, Extruding, and Alloying.
331422 | Copper Wire (except Mechanical) Drawing.
331423 | Secondary Smelting, Refining, and Alloying of Copper.
331521 | Aluminum Die-Casting Foundries. | 331523 | Nonferrous Metal Die-Casting Foundries.
331522 | Nonferrous (except Aluminum) Die-Casting Foundries.
331525 | Copper Foundries (except Die-Casting). | 331529 | Other Nonferrous Metal Foundries (except Die-Casting).
331528 | Other Nonferrous Foundries (except Die-Casting).
332115 | Crown and Closure Manufacturing. | 332119 | Metal Crown, Closure, and Other Metal Stamping (except Automotive).
332116 | Metal Stamping.
332211 | Cutlery and Flatware (except Precious) Manufacturing. | 332215 | Metal Kitchen Cookware, Utensil, Cutlery, and Flatware (except Precious) Manufacturing.
332214 | Kitchen Utensil, Pot, and Pan Manufacturing.
332212 | Hand and Edge Tool Manufacturing. | 332216 | Saw Blade and Handtool Manufacturing.
332213 | Saw Blade and Handsaw Manufacturing.
332611 | Spring (Heavy Gauge) Manufacturing. | 332613 | Spring Manufacturing.
332612 | Spring (Light Gauge) Manufacturing.
332994 | Small Arms Manufacturing. | 332994 | Small Arms, Ordnance, and Ordnance Accessories Manufacturing.
332995 | Other Ordnance and Accessories Manufacturing.
332997 | Industrial Pattern Manufacturing. | 332999 | All Other Miscellaneous Fabricated Metal Product Manufacturing.
332998 | Enameled Iron and Metal Sanitary Ware Manufacturing. | 332999 | All Other Miscellaneous Fabricated Metal Product Manufacturing.
332999 | All Other Miscellaneous Fabricated Metal Product Manufacturing.
333210 | Sawmill and Woodworking Machinery Manufacturing pt. | 333243 | Sawmill, Woodworking, and Paper Machinery Manufacturing.
333291 | Paper Industry Machinery Manufacturing.
333220 | Plastics and Rubber Industry Machinery Manufacturing. | 333249 | Other Industrial Machinery Manufacturing.
333292 | Textile Machinery Manufacturing.
333298 | All Other Industrial Machinery Manufacturing.
333293 | Printing Machinery and Equipment Manufacturing. | 333244 | Printing Machinery and Equipment Manufacturing.
333294 | Food Product Machinery Manufacturing. | 333241 | Food Product Machinery Manufacturing.
333295 | Semiconductor Machinery Manufacturing. | 333242 | Semiconductor Machinery Manufacturing.
333311 | Automatic Vending Machine Manufacturing. | 333318 | Other Commercial and Service Industry Machinery Manufacturing.
333312 | Commercial Laundry, Drycleaning, and Pressing Machine Manufacturing.
333313 | Office Machinery Manufacturing.
333319 | Other Commercial and Service Industry Machinery Manufacturing.
333315 | Photographic and Photocopying Equipment Manufacturing. | 333316 | Photographic and Photocopying Equipment Manufacturing.
334119 | Other Computer Peripheral Equipment Manufacturing.
| digital camera manufacturing.
333411 | Air Purification Equipment Manufacturing. | 333413 | Industrial and Commercial Fan and Blower and Air Purification Equipment Manufacturing.
333412 | Industrial and Commercial Fan and Blower Manufacturing.
333512 | Machine Tool (Metal Cutting Types) Manufacturing. | 333517 | Machine Tool Manufacturing.
333513 | Machine Tool (Metal Forming Types) Manufacturing.
333516 | Rolling Mill Machinery and Equipment Manufacturing. | 333519 | Rolling Mill and Other Metalworking Machinery Manufacturing.
333518 | Other Metalworking Machinery Manufacturing.
334113 | Computer Terminal Manufacturing. | 334118 | Computer Terminal and Other Computer Peripheral Equipment Manufacturing.
334119 | Other Computer Peripheral Equipment Manufacturing except digital camera manufacturing.
334411 | Electron Tube Manufacturing. | 334419 | Other Electronic Component Manufacturing.
334414 | Electronic Capacitor Manufacturing. | 334416 | Capacitor, Resistor, Coil, Transformer, and Other Inductor Manufacturing.
334415 | Electronic Resistor Manufacturing.
334416 | Electronic Coil, Transformer, and Other Inductor Manufacturing.
334518 | Watch, Clock, and Part Manufacturing. | 334519 | Other Measuring and Controlling Device Manufacturing.
334611 | Software Reproducing. | 334614 | Software and Other Prerecorded Compact Disc, Tape, and Record Reproducing.
334612 | Prerecorded Compact Disc (except Software), Tape, and Record Reproducing.
335211 | Electric Housewares and Household Fan Manufacturing. | 335210 | Small Electrical Appliance Manufacturing.
335212 | Household Vacuum Cleaner Manufacturing.
336311 | Carburetor, Piston, Piston Ring, and Valve Manufacturing. | 336310 | Motor Vehicle Gasoline Engine and Engine Parts Manufacturing.
336312 | Gasoline Engine and Engine Parts Manufacturing.
336321 | Vehicular Lighting Equipment Manufacturing. | 336320 | Motor Vehicle Electrical and Electronic Equipment Manufacturing.
336322 | Other Motor Vehicle Electrical and Electronic Equipment Manufacturing.
336391 | Motor Vehicle Air-Conditioning Manufacturing. | 336390 | Other Motor Vehicle Parts Manufacturing.
336399 | All Other Motor Vehicle Parts Manufacturing.
337129 | Wood Television, Radio, and Sewing Machine Cabinet Manufacturing. | 321999 | All Other Miscellaneous Wood Product Manufacturing.
339911 | Jewelry (except Costume) Manufacturing. | 339910 | Jewelry and Silverware Manufacturing.
339912 | Silverware and Hollowware Manufacturing.
339913 | Jewelers' Material and Lapidary Work Manufacturing.
339914 | Costume Jewelry and Novelty Manufacturing.
339931 | Doll and Stuffed Toy Manufacturing. | 339930 | Doll, Toy, and Game Manufacturing.
339932 | Game, Toy, and Children's Vehicle Manufacturing.
339941 | Pen and Mechanical Pencil Manufacturing. | 339940 | Office Supplies (except Paper) Manufacturing.
339942 | Lead Pencil and Art Good Manufacturing.
339943 | Marking Device Manufacturing.
339944 | Carbon Paper and Inked Ribbon Manufacturing.

VIII. What additional reporting burden is associated with this action?

This proposed rule would add no new reporting requirements, and there would be no net increase in respondent burden. Facilities were first required to use NAICS codes when reporting their toxic chemical releases and other waste management activities to EPA beginning in 2007 for reporting year 2006. Covered facilities should refer to the updated NAICS code list in 40 CFR 372.23 when reporting. Crosswalk tables between 2007 NAICS codes and 2012 NAICS codes can be found on the Internet at http://www.census.gov/epcd/www/naics.html.

IX. Regulatory Assessment Requirements

A. Executive Order 12866: Regulatory Planning and Review and Executive Order 13563: Improving Regulation and Regulatory Review

This action is not a “significant regulatory action” under the terms of Executive Order 12866 (58 FR 51735, October 4, 1993) and is therefore not subject to review under Executive Orders 12866 and 13563 (76 FR 3821, January 21, 2011).

EPA analyzed the potential costs and benefits associated with this action, and determined that since this rule adds no new reporting requirements, there will be no net increase in respondent burden or other economic impacts.

B. Paperwork Reduction Act

This action does not impose any new information collection burden. Facilities that are affected by the rule are already required to report their industrial classification codes on the approved reporting forms under section 313 of EPCRA and 6607 of the PPA.

However, the Office of Management and Budget (OMB) has previously approved the information collection requirements contained in 40 CFR part 372 under the provisions of the Paperwork Reduction Act, 44 U.S.C. 3501 et seq., and has assigned OMB control number 2025-0009 (EPA ICR No. 1363-21) for Form R and Form A. A copy of the OMB approved Information Collection Requests (ICRs) may be obtained from Susan Auby, Collection Strategies Division; U.S. Environmental Protection Agency (2822T); 1200 Pennsylvania Ave. NW., Washington, DC 20460 or by calling (202) 566-1672. The OMB control numbers for EPA's regulations in 40 CFR are listed in 40 CFR part 9.

C. The Regulatory Flexibility Act (RFA), as Amended by the Small Business Regulatory Enforcement Fairness Act of 1996 (SBREFA), 5 U.S.C. 601 et seq.

The RFA generally requires an agency to prepare a regulatory flexibility analysis of any rule subject to notice and comment rulemaking requirements under the Administrative Procedure Act or any other statute unless the agency certifies that the rule will not have a significant economic impact on a substantial number of small entities. Small entities include small businesses, small organizations, and small governmental jurisdictions.

For purposes of assessing the impacts of this rule on small entities, section 601 of the RFA, 5 U.S.C. 601, defines “small entity” as: (1) A business that is classified as a “small business” by the Small Business Administration at 13 CFR 121.201; (2) a small governmental jurisdiction that is a government of a city, county, town, school district or special district with a population of less than 50,000; or (3) a small organization that is any not-for-profit enterprise which is independently owned and operated and is not dominant in its field.

This rule adds no new reporting requirements, and there will be no net increase in respondent burden. This rule only proposes to update the NAICS codes already reported by respondents. After considering the economic impacts of today's proposed rule on small entities, I certify that this action will not have a significant economic impact on a substantial number of small entities. This proposed rule will not impose any requirements on small entities.

We continue to be interested in the potential impacts of the proposed rule on small entities and welcome comments on issues related to such impacts.

D. Unfunded Mandates Reform Act

This rule does not contain a Federal mandate that may result in expenditures of $100 million or more to State, local, and tribal governments, in the aggregate, or to the private sector in any one year. This rule adds no new reporting requirements and there will be no net increase in respondent burden. Thus, this rule is not subject to the requirements of sections 202 or 205 of UMRA.

This rule is also not subject to the requirements of section 203 of UMRA because it contains no regulatory requirements that might significantly or uniquely affect small governments. This EPA action contains no new reporting requirements.

E. Executive Order 13132, Federalism

This action does not have federalism implications. It will not have substantial direct effects on the States, on the relationship between the national government and the States, or on the distribution of power and responsibilities among the various levels of government, as specified in Executive Order 13132. This action only proposes to update the NAICS reporting codes used by TRI reporting facilities on chemical reporting forms. Thus, Executive Order 13132 does not apply to this rule.

In the spirit of Executive Order 13132, and consistent with EPA policy to promote communications between EPA and State and local governments, EPA specifically solicits comment on this proposed action from State and local officials.

F. Executive Order 13175

This action does not have tribal implications, as specified in Executive Order 13175 (65 FR 67249), November 9, 2000, because this action only proposes to update the NAICS reporting codes for TRI reporting purposes. Thus, Executive Order 13175 does not apply to this rule.

G. Executive Order 13045, Protection of Children From Environmental Health Risks and Safety Risks

EPA interprets EO 13045 (62 FR 19885, April 23, 1997), as applying only to those regulatory actions that concern health or safety risks, such that the analysis required under section 5-501 of the EO has the potential to influence the regulation. This action is not subject to EO 13045 because it does not establish an environmental standard intended to mitigate health or safety risks.

H. Executive Order 13211, Actions Concerning Regulations That Significantly Affect Energy Supply, Distribution, or Use

This action is not subject to Executive Order 13211 (66 FR 28355 (May 22, 2001)), because it is not a significant regulatory action under Executive Order 12866.

I. National Technology Transfer and Advancement Act

Section 12(d) of the National Technology Transfer and Advancement Act of 1995 (“NTTAA”), Public Law 104-113, 12(d) (15 U.S.C. 272 note) directs EPA to use voluntary consensus standards in its regulatory activities unless to do so would be inconsistent with applicable law or otherwise impractical. Voluntary consensus standards are technical standards (e.g., materials specifications, test methods, sampling procedures, and business practices) that are developed or adopted by voluntary consensus standards bodies. The NTTAA directs EPA to provide Congress, through OMB, explanations when the Agency decides not to use available and applicable voluntary consensus standards.

This action does not involve technical standards. Therefore, EPA did not consider the use of any voluntary consensus standards.

J. Executive Order 12898: Federal Actions to Address Environmental Justice in Minority Populations and Low-Income Populations.

Executive Order (EO) 12898 (59 FR 7629 (Feb. 16, 1994)) establishes federal executive policy on environmental justice. Its main provision directs federal agencies, to the greatest extent practicable and permitted by law, to make environmental justice part of their mission by identifying and addressing, as appropriate, disproportionately high and adverse human health or environmental effects of their programs, policies, and activities on minority populations and low-income populations in the United States.

EPA has determined that this proposed rule will not have disproportionately high and adverse human health or environmental effects on minority or low-income populations because the rule addresses information collection and does not affect the level of protection provided to human health or the environment. This rule simply proposes to update the NAICS reporting codes for TRI reporting purposes.

List of Subjects in 40 CFR Part 372

Environmental protection, Community right-to-know, Reporting and recordkeeping requirements, Toxic chemicals.

Dated: July 9, 2013.
Bob Perciasepe,
Acting Administrator.

For the reasons set out in the preamble, title 40 Chapter I of the Code of Federal Regulations is proposed to be amended as follows:

PART 372—[AMENDED]

1. The authority citation for part 372 continues to read as follows:

Authority: 42 U.S.C. 11023 and 11048.

2. Amend § 372.22 by revising the introductory text for paragraph (b) to read as follows:

§ 372.22 Covered facilities for toxic chemical release reporting.

* * * * *

(b) The facility is in a Standard Industrial Classification (SIC) (as in effect on January 1, 1987) major group or industry code listed in § 372.23(a), for which the corresponding North American Industry Classification System (NAICS) (as in effect on January 1, 2012, for reporting year 2013 and thereafter) subsector and industry codes are listed in §§ 372.23(b) and 372.23(c) by virtue of the fact that it meets one of the following criteria:

* * * * *

3. Amend § 372.23 by revising paragraphs (b) and (c) to read as follows:

§ 372.23 SIC and NAICS codes to which this Part applies.

* * * * *

(b) NAICS codes that correspond to SIC codes 20 through 39

Subsector code or industry code | Exceptions and/or limitations
311 Food Manufacturing | Except 311119—Exception is limited to facilities primarily engaged in Custom Grain Grinding for Animal Feed (previously classified under SIC 0723, Crop Preparation Services for Market, Except Cotton Ginning);
| Except 311340—Exception is limited to facilities primarily engaged in the retail sale of candy, nuts, popcorn and other confections not for immediate consumption made on the premises (previously classified under SIC 5441, Candy, Nut, and Confectionery Stores);
| Except 311352—Exception is limited to facilities primarily engaged in the retail sale of candy, nuts, popcorn and other confections not for immediate consumption made on the premises (previously classified under SIC 5441, Candy, Nut, and Confectionery Stores);
| Except 311611—Exception is limited to facilities primarily engaged in Custom Slaughtering for individuals (previously classified under SIC 0751, Livestock Services, Except Veterinary, Slaughtering, custom: for individuals);
| Except 311612—Exception is limited to facilities primarily engaged in the cutting up and resale of purchased fresh carcasses for the trade (including boxed beef), and in the wholesale distribution of fresh, cured, and processed (but not canned) meats and lard (previously classified under SIC 5147, Meats and Meat Products);
| Except 311811—Retail Bakeries (previously classified under SIC 5461, Retail Bakeries);
312 Beverage and Tobacco Product Manufacturing | Except 312112—Exception is limited to facilities primarily engaged in bottling mineral or spring water (previously classified under SIC 5149, Groceries and Related Products, NEC);
| Except 312230—Exception is limited to facilities primarily engaged in providing Tobacco Sheeting Services (previously classified under SIC 7389, Business Services, NEC);
313 Textile Mills | Except 313310—Exception is limited to facilities primarily engaged in converting broadwoven piece goods and broadwoven textiles, (previously classified under SIC 5131, Piece Goods Notions, and Other Dry Goods, broadwoven and non-broadwoven piece good converters); and facilities primarily engaged in converting narrow woven Textiles and narrow woven piece goods, (previously classified under SIC 5131, Piece Good Notions, and Other Dry Goods, converters, except broadwoven fabric); and facilities primarily engaged in sponging fabric for tailors and dressmakers (previously classified under SIC 7389, Business Services, NEC (Sponging fabric for tailors and dressmakers);
314 Textile Product Mills | Except 314120—Exception is limited to facilities primarily engaged in making Custom drapery and in making Custom slipcovers for retail sale (previously classified under SIC 5714, Drapery, Curtain, and Upholstery Stores); Except 314999—Exception is limited to facilities primarily engaged in Binding carpets and rugs for the trade, Carpet cutting and binding, and Embroidering on textile products (except apparel) for the trade (previously classified under SIC 7389, Business Services Not Elsewhere Classified, Embroidering of advertising on shirts and Rug binding for the trade);
315 Apparel Manufacturing | Except 315220—Exception is limited to custom tailors primarily engaged in making and selling men's and boys' suits, men's and boys' dress shirts, and bridal dresses or gowns or women's, misses' and girls' dresses, cut and sewn from purchased fabric (previously classified under SIC 5699, Miscellaneous Apparel and Accessory Stores (custom tailors)) and to custom tailors primarily engaged in making and selling bridal dresses or gowns, or women's, misses' and girls' dresses cut and sewn from purchased fabric (except apparel contractors) (custom dressmakers) (previously classified under SIC Code 5699, Miscellaneous Apparel and Accessory Stores);
316 Leather and Allied Product Manufacturing. |
321 Wood Product Manufacturing. |
322 Paper Manufacturing. |
323 Printing and Related Support Activities | Except 323111—Exception is limited to facilities primarily engaged in reproducing text, drawings, plans, maps, or other copy, by blueprinting, photocopying, mimeographing, or other methods of duplication other than printing or microfilming (i.e., instant printing) (previously classified under SIC 7334, Photocopying and Duplicating Services, (instant printing));
324 Petroleum and Coal Products Manufacturing. |
325 Chemical Manufacturing | Except 325998—Exception is limited to facilities primarily engaged in Aerosol can filling on a job order or contract basis (previously classified under SIC 7389, Business Services, NEC (aerosol packaging));
326 Plastics and Rubber Products Manufacturing | Except 326212—Tire Retreading, (previously classified under SIC 7534, Tire Retreading and Repair Shops (rebuilding));
327 Nonmetallic Mineral Product Manufacturing | Except 327110—Exception is limited to facilities primarily engaged in manufacturing and selling pottery on site (previously classified under SIC 5719, Miscellaneous Homefurnishing Stores);
331 Primary Metal Manufacturing. |
332 Fabricated Metal Product Manufacturing. |
333 Machinery Manufacturing. |
334 Computer and Electronic Product Manufacturing | Except 334614—Exception is limited to facilities primarily engaged in Software Reproducing (previously classified under SIC 7372, Prepackaged Software, (reproduction of software)) and to facilities primarily engaged in mass reproducing pre-recorded Video cassettes, and mass reproducing Video tape or disk (previously classified under SIC 7819, Services Allied to Motion Picture Production (reproduction of Video));
335 Electrical Equipment, Appliance, and Component Manufacturing | Except 335312—Exception is limited to facilities primarily engaged in armature rewinding on a factory basis (previously classified under SIC 7694 (Armature Rewinding Shops (remanufacturing));
336 Transportation Equipment Manufacturing. |
337 Furniture and Related Product Manufacturing | Except 337110—Exception is limited to facilities primarily engaged in the retail sale of household furniture and that manufacture custom wood kitchen cabinets and counter tops (previously classified under SIC 5712, Furniture Stores (custom wood cabinets));
| Except 337121—Exception is limited to facilities primarily engaged in the retail sale of household furniture and that manufacture custom made upholstered household furniture (previously classified under SIC 5712, Furniture Stores (upholstered, custom made furniture));
| Except 337122—Exception is limited to facilities primarily engaged in the retail sale of household furniture and that manufacture nonupholstered, household type, custom wood furniture (previously classified under SIC 5712, Furniture Stores (custom made wood nonupholstered household furniture except cabinets));
339 Miscellaneous Manufacturing | Except 339113—Exception is limited to facilities primarily engaged in manufacturing orthopedic devices to prescription in a retail environment (previously classified under SIC 5999, Miscellaneous Retail Stores, NEC);
| Except 339115—Exception is limited to lens grinding facilities that are primarily engaged in the retail sale of eyeglasses and contact lenses to prescription for individuals (previously classified under SIC 5995, Optical Goods Stores (optical laboratories grinding of lenses to prescription));
| Except 339116—Dental Laboratories (previously classified under SIC 8072, Dental Laboratories);
111998 All Other Miscellaneous Crop Farming | Limited to facilities primarily engaged in reducing maple sap to maple syrup (previously classified under SIC 2099, Food Preparations, NEC, Reducing Maple Sap to Maple Syrup);
113310 Logging. |
211112 Natural Gas Liquid Extraction | Limited to facilities that recover sulfur from natural gas (previously classified under SIC 2819, Industrial Inorganic chemicals, NEC (recovering sulfur from natural gas));
212324 Kaolin and Ball Clay Mining | Limited to facilities operating without a mine or quarry and that are primarily engaged in beneficiating kaolin and clay (previously classified under SIC 3295, Minerals and Earths, Ground or Otherwise Treated (grinding, washing, separating, etc. of minerals in SIC 1455));
212325 Mining | Limited to facilities operating without a mine or quarry and that are primarily engaged in beneficiating clay and ceramic and refractory minerals (previously classified under SIC 3295, Minerals and Earths, Ground or Otherwise Treated (grinding, washing, separating, etc. of minerals in SIC 1459));
212393 Other Chemical and Fertilizer Mineral Mining | Limited to facilities operating without a mine or quarry and that are primarily engaged in beneficiating chemical or fertilizer mineral raw materials (previously classified under SIC 3295, Minerals and Earths, Ground or Otherwise Treated (grinding, washing, separating, etc. of minerals in SIC 1479));
212399 All Other Nonmetallic Mineral Mining | Limited to facilities operating without a mine or quarry and that are primarily engaged in beneficiating nonmetallic minerals (previously classified under SIC 3295, Minerals and Earths, Ground or Otherwise Treated (grinding, washing, separating, etc. of minerals in SIC 1499));
488390 Other Support Activities for Water Transportation | Limited to facilities that are primarily engaged in providing routine repair and maintenance of ships and boats from floating drydocks (previously classified under SIC 3731, Shipbuilding and Repairing (floating drydocks not associated with a shipyard));
511110 Newspaper Publishers. |
511120 Periodical Publishers. |
511130 Book Publishers. |
511140 Directory and Mailing List Publishers | Except facilities that are primarily engaged in furnishing services for direct mail advertising including Address list compilers, Address list publishers, Address list publishers and printing combined, Address list publishing , Business directory publishers, Catalog of collections publishers, Catalog of collections publishers and printing combined, Mailing list compilers, Directory compilers, and Mailing list compiling services (previously classified under SIC 7331, Direct Mail Advertising Services (mailing list compilers));
511191 Greeting Card Publishers. |
511199 All Other Publishers. |
512220 Integrated Record Production/Distribution. |
512230 Music Publishers | Except facilities primarily engaged in Music copyright authorizing use, Music copyright buying and licensing, and Music publishers working on their own account (previously classified under SIC 8999, Services, NEC (music publishing));
519130 Internet Publishing and Broadcasting and Web Search Portals | Limited to facilities primarily engaged in Internet newspaper publishing (previously classified under SIC 2711, Newspapers: Publishing, or Publishing and Printing), Internet periodical publishing (previously classified under SIC 2721, Periodicals: Publishing, or Publishing and Printing), Internet book publishing (previously classified under SIC 2731, Books: Publishing, or Publishing and Printing), Miscellaneous Internet publishing (previously classified under SIC 2741, Miscellaneous Publishing), Internet greeting card publishers (previously classified under SIC 2771, Greeting Cards); Except for facilities primarily engaged in Web search portals.
541712 Research and Development in the Physical, Engineering, and Life Sciences (except Biotechnology) | Limited to facilities that are primarily engaged in Guided missile and space vehicle engine research and development (previously classified under SIC 3764, Guided Missile and Space Vehicle Propulsion Units and Propulsion Unit Parts), and in Guided missile and space vehicle parts (except engines) research and development (previously classified under SIC 3769, Guided Missile and Space Vehicle Parts and Auxiliary Equipment, Not Elsewhere Classified);
811490 Other Personal and Household Goods Repair and Maintenance | Limited to facilities that are primarily engaged in repairing and servicing pleasure and sail boats without retailing new boats (previously classified under SIC 3732, Boat Building and Repairing (pleasure boat building));

(c) NAICS codes that correspond to SIC codes other than SIC codes 20 through 39.

Subsector or industry code | Exceptions and/or limitations
212111 Bituminous Coal and Lignite Surface Mining. |
212112 Bituminous Coal and Underground Mining. |
212113 Anthracite Mining. |
212221 Gold Ore Mining. |
212222 Silver Ore Mining. |
212231 Lead Ore and Zinc Ore Mining. |
212234 Copper Ore and Nickel Ore Mining. |
212299 Other Metal Ore Mining. |
221111 Hydroelectric Power Generation. | Limited to facilities that combust coal and/or oil for the purpose of generating power for distribution in commerce.
221112 Fossil Fuel Electric Power Generation | Limited to facilities that combust coal and/or oil for the purpose of generating power for distribution in commerce.
221113 Nuclear Electric Power Generation | Limited to facilities that combust coal and/or oil for the purpose of generating power for distribution in commerce.
221118 Other Electric Power Generation | Limited to facilities that combust coal and/or oil for the purpose of generating power for distribution in commerce.
221121 Electric Bulk Power Transmission and Control | Limited to facilities that combust coal and/or oil for the purpose of generating power for distribution in commerce.
221122 Electric Power Distribution | Limited to facilities that combust coal and/or oil for the purpose of generating power for distribution in commerce.
221330 Steam and Air Conditioning Supply | Limited to facilities engaged in providing combinations of electric, gas, and other services, not elsewhere classified (N.E.C.) (previously classified under SIC 4939, Combination Utility Services Not Elsewhere Classified. )
424690 Other Chemical and Allied Products Merchant Wholesalers. |
424710 Petroleum Bulk Stations and Terminals. |
425110 Business to Business Electronic Markets | Limited to facilities previously classified in SIC 5169, Chemicals and Allied Products, Not Elsewhere Classified.
425120 Wholesale Trade Agents and Brokers | Limited to facilities previously classified in SIC 5169, Chemicals and Allied Products, Not Elsewhere Classified.
562112 Hazardous Waste Collection | Limited to facilities primarily engaged in solvent recovery services on a contract or fee basis (previously classified under SIC 7389, Business Services, NEC);
562211 Hazardous Waste Treatment and Disposal | Limited to facilities regulated under the Resource Conservation and Recovery Act, subtitle C, 42 U.S.C. 6921 et seq.
562212 Solid Waste Landfill | Limited to facilities regulated under the Resource Conservation and Recovery Act, subtitle C, 42 U.S.C. 6921 et seq.
562213 Solid Waste Combustors and Incinerators | Limited to facilities regulated under the Resource Conservation and Recovery Act, subtitle C, 42 U.S.C. 6921 et seq.
562219 Other Nonhazardous Waste Treatment and Disposal | Limited to facilities regulated under the Resource Conservation and Recovery Act, subtitle C, 42 U.S.C. 6921 et seq.
562920 Materials Recovery Facilities | Limited to facilities regulated under the Resource Conservation and Recovery Act, subtitle C, 42 U.S.C. 6921 et seq.

[FR Doc. 2013-17297 Filed 7-17-13; 8:45 am]

BILLING CODE 6560-50-P